DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Kennecott Utah Copper LLC.

DATES: All comments on the petition must be received by MSHA's Office of Standards, Regulations, and Variances on or before February 11, 2026.

ADDRESSES: You may submit comments identified by Docket No. MSHA-2025-0356 by any of the following methods:

1. Federal eRulemaking Portal: https://www.regulations.gov. Follow the instructions for submitting comments for MSHA-2025-0356.

2. Fax: 202-693-9441.

3. Email: petitioncomments@dol.gov.

4. Regular Mail or Hand Delivery: MSHA, Office of Standards, Regulations, and Variances, Room C3522, 200 Constitution Ave. NW, Washington, DC 20210.

Attention: Jessica D. Senk, Acting Director, Office of Standards, Regulations, and Variances. Individuals may inspect copies of the petition and comments during normal business hours at the address listed above. Before visiting MSHA in person, call 202-693-9440 to make an appointment.

FOR FURTHER INFORMATION CONTACT: Jessica D. Senk, Office of Standards, Regulations, and Variances at 202-693-9440 (voice), Petitionsformodification@dol.gov (email), or 202-693-9441 (fax). These are not toll-free numbers.

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-004-M.

Petitioner: Kennecott Utah Copper, LLC, 4700 Daybreak Parkway, South Jordan, Utah 84095.

Mine: Kennecott Keystone Underground, MSHA ID No. 42-01392, located in Salt Lake County, Utah.

Regulation Affected: 30 CFR 57.11052, Refuge areas.

Modification Request: The petitioner requests a modification of the existing standard, 30 CFR 57.11052(d), Refuge areas. Specifically, the petitioner is applying to allow the use of commercially purchased, sealed, drinking water in lieu of providing potable water through waterlines in refuge areas.

The petitioner states that:

(a) The Kennecott Keystone Underground mine is an underground portal copper mine with 14 refuge chambers located throughout the underground portion of the mine.

(b) In the refuge areas, drinkable water is supplied via commercially purchased water in sealed bottles.

(c) The refuge chambers are Mine ARC refuge chambers and are made of steel. The refuge chambers are equipped for a maximum capacity of between 4 and 20 miners each. This capacity exceeds the normal work crew of approximately 65 miners underground on any shift.

(d) Each refuge chamber is provided with a waterline. The water flowing through these lines is not potable due to the configuration of the waterlines and the water source. Installing waterlines to provide potable drinking water to each refuge chamber is not feasible due to the lack of essential infrastructure.

(e) The waterlines are susceptible to damage during an emergency and under normal working conditions. The water supply could be compromised, polluted, or cut off completely.

(f) In an emergency, there can be no guarantee of potable drinking water via the waterline for miners using the refuge area, as required by 30 CFR 57.11052(d). Application of the standard could adversely impact the safety of the affected miners if they were to rely on waterlines running from the portal to the refuge chambers, as these lines are subject to interruption and are inherently less safe than sanitary sealed water bottles located inside the refuge chambers. Sealed water stored inside each refuge chamber ensures that affected miners will have sanitary drinking water available to them in an emergency.

(g) The requirement of 30 CFR 57.11052 can also pose operational constraints as the 14 refuge chambers are mobile and periodically relocated to accommodate mining progress. Permanent connections would hinder operational flexibility and pose logistical challenges. Allowing the use of refuge chambers which do not have to be connected to waterlines provides greater flexibility in the location of the refuge chambers. Refuge chambers can be located in direct relation to where miners are working and relocated quickly to working areas as needed for the protection of miners.

The petitioner proposes the following alternative method:

(a) Maintain a minimum of 4.5 liters of potable water per person via commercially available water in sealed individual portion sized bottles in each refuge chamber to support the maximum occupancy for at least 36 hours.

(b) Water shall be stored in a manner that makes the expiration dates readily visible for inspection.

(c) Kennecott Utah Copper LLC will replace the existing water supply with fresh water before the expiration date of the water.

(d) All refuge chambers have 36-hour battery back-up power to run all systems.

(e) The refuge chambers with are equipped with atmospheric monitoring and air purification systems (manual and digital).

(f) The refuge chambers are equipped with MARCISORB chemical absorber cartridges to remove the buildup of harmful carbon dioxide (CO2) and carbon monoxide (CO) from the air inside the refuge chamber.

(g) Conduct monthly inspections, all personnel performing maintenance on refuges chambers are trained and certified by the manufacturer to conduct inspection and repairs on the chambers. OEM required service of the chambers are performed every 4 months.

(h) Provide training to all underground personnel on refuge chamber use and emergency protocols including instructions for conservation of water in the refuge chambers.

There are no representatives of miners at Kennecott Utah Copper, LLC, Kennecott Keystone Underground. A copy of this Petition has been posted on the bulletin board as of September 4, 2025.

In support of the proposed alternative method, the petitioner has also submitted specification sheets for the MineSafe MS-CD1-04-ELVP-36 refuge area, specification sheets for the Mine Safe MS-SD2-12-SIV-36 refuge area, the GuardIAN Intelligence Network brochure, and the mine map for Kennecott Keystone Underground.

The petitioner asserts that the alternative method will guarantee no less than the same measure of protection afforded the miners under the mandatory standard.

Jessica D. Senk,
Acting Director, Office of Standards, Regulations, and Variances.

[FR Doc. 2026-00352 Filed 1-9-26; 8:45 am]

BILLING CODE 4520-43-P